DEPARTMENT OF HEALTH AND HUMAN SERVICES

Health Resources and Service Administration

National Advisory Council on Migrant Health

AGENCY: Health Resources and Service Administration (HRSA), Department of Health and Human Services (HHS).

ACTION: Notice of meeting.

SUMMARY: In accordance with the Federal Advisory Committee Act, notice is hereby given that a National Advisory Council on Migrant Health (NACMH/Council) meeting has been scheduled. This meeting will be open to the public. The agenda for the NACMH meeting can be obtained by contacting the Designated Federal Officer (DFO) or accessing the Council Web site: https://bphc.hrsa.gov/qualityimprovement/strategicpartnerships/nacmh/index.html.

DATES: The meeting will be held on November 7, 2017, 8:30 a.m.to 5:00 p.m. ET, and November 8, 2017, 8:30 a.m. to 5:00 p.m. ET.

ADDRESSES: The address for the meeting is Doubletree by Hilton Raleigh Brownstone-University, 1707 Hillsborough Street, Raleigh, NC 27605. Phone: (919) 828-0811.

FOR FURTHER INFORMATION CONTACT: All requests for information regarding the NACMH should be sent to Esther Paul, DFO, NACMH, HRSA, in one of three ways: (1) By mail to: Esther Paul, Office of Policy and Program Development, Bureau of Primary Health Care, HRSA, 5600 Fishers Lane, 16N38B, Rockville, Maryland 20857; (2) by phone: (301) 594-4300; or (3) by email: epaul@hrsa.gov.

SUPPLEMENTARY INFORMATION: The NACMH is a non-discretionary advisory body mandated by the Public Health Service (PHS) Act, Title 42 U.S.C. 218, to advise, consult with, and make recommendations to the Secretary of HHS and the Administrator of HRSA regarding the organization, operation, selection, and funding of migrant health centers and other entities funded under section 330(g) of the PHS Act (42 U.S.C. 254b). The NACMH Charter requires that the Council meet at least twice per year to discuss services and issues related to the health of migrant and seasonal agricultural workers and their families and to formulate their recommendations to the HHS Secretary and HRSA Administrator.

Agenda: The agenda includes an overview of the Council's general business activities. The Council will also hear presentations from a federal official and experts on issues facing agricultural workers, including the status of agricultural worker health at the local and national levels. In addition, the Council will hold a public hearing where migratory and seasonal agricultural workers will testify regarding matters affecting them. This hearing is scheduled for Tuesday, November 7, 2017 from 1:30 p.m. to 5:00 p.m. at the Doubletree by Hilton Raleigh Brownstone-University. Agenda items are subject to change as priorities indicate.

Public Participation: Members of the public will not be able to provide oral comments during the meeting. Please provide any written questions or comments for the NACMH to the DFO by October 27, 2017, using the address, phone number, or email provided above. Individuals who plan to attend the meeting and need special assistance, such as sign language interpretation or other reasonable accommodations, should notify the DFO at least 10 days prior to the meeting.

Amy McNulty,
Acting Director, Division of the Executive Secretariat.

[FR Doc. 2017-20422 Filed 9-22-17; 8:45 am]

BILLING CODE 4165-15-P